DEPARTMENT OF TRANSPORTATION

Federal Aviation Administration

14 CFR Part 95

[Docket No. 31561; Amdt. No. 580]

IFR Altitudes; Miscellaneous Amendments

AGENCY: Federal Aviation Administration (FAA), DOT.

ACTION: Final rule.

SUMMARY: This amendment adopts miscellaneous amendments to the required IFR (instrument flight rules) altitudes and changeover points for certain Federal airways, jet routes, or direct routes for which a minimum or maximum en route authorized IFR altitude is prescribed. This regulatory action is needed because of changes occurring in the National Airspace System. These changes are designed to provide for the safe and efficient use of the navigable airspace under instrument conditions in the affected areas.

DATES: Effective 0901 UTC, September 5, 2024.

FOR FURTHER INFORMATION CONTACT: Thomas J. Nichols, Flight Procedures and Airspace Group, Flight Technologies and Procedures Division, Flight Standards Service, Federal Aviation Administration. Mailing Address: FAA Mike Monroney Aeronautical Center, Flight Procedures and Airspace Group, 6500 South MacArthur Blvd., STB Annex, Bldg. 26, Room 217, Oklahoma City, OK 73169-6918. Telephone: (405) 954-1139.

SUPPLEMENTARY INFORMATION: This amendment to part 95 of the Federal Aviation Regulations (14 CFR part 95) amends, suspends, or revokes IFR altitudes governing the operation of all aircraft in flight over a specified route or any portion of that route, as well as the changeover points (COPs) for Federal airways, jet routes, or direct routes as prescribed in part 95.

The Rule

The specified IFR altitudes, when used in conjunction with the prescribed changeover points for those routes, ensure navigation aid coverage that is adequate for safe flight operations and free of frequency interference. The reasons and circumstances that create the need for this amendment involve matters of flight safety and operational efficiency in the National Airspace System, are related to published aeronautical charts that are essential to the user, and provide for the safe and efficient use of the navigable airspace. In addition, those various reasons or circumstances require making this amendment effective before the next scheduled charting and publication date of the flight information to assure its timely availability to the user. The effective date of this amendment reflects those considerations. In view of the close and immediate relationship between these regulatory changes and safety in air commerce, I find that notice and public procedure before adopting this amendment are impracticable and contrary to the public interest and that good cause exists for making the amendment effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 95

Airspace, Navigation (air).

Issued in Washington, DC, on August 2, 2024.
Thomas J Nichols,
Aviation Safety, Flight Standards Service, Manager, Standards Section, Flight Procedures & Airspace Group, Flight Technologies and Procedures Division.

Adoption of the Amendment

Accordingly, pursuant to the authority delegated to me by the Administrator, part 95 of the Federal Aviation Regulations (14 CFR part 95) is amended as follows effective at 0901 UTC, 5 September 2024.

PART 95—IFR ALTITUDES

1. The authority citation for part 95 continues to read as follows:

Authority: 49 U.S.C. 106(g), 40103, 40113, and 14 CFR 11.49(b)(2).

2. Part 95 is amended to read as follows:

Revisions to IFR Altitudes & Changeover Point
[Amendment 580 effective date September 05, 2024]
From | To | MEA
Color Routes
§ 95.5 Green Federal Airway G13 Is Amended To Delete
ZOLMN, NC WP | MANTEO, NC NDB | 2000 MAA—17500
§ 95.10 Amber Federal Airway A1 Is Amended To Delete
U.S. CANADIAN BORDER | U.S. CANADIAN BORDER | 2800 MAA—17500
U.S. CANADIAN BORDER | SITKA, AK NDB | *5200
* 2300—MOCA |  | MAA—17500
SITKA, AK NDB | SPARL, AK FIX | 5200 MAA—17500
SPARL, AK FIX | OCEAN CAPE, AK NDB | *6000
* 2200—MOCA |  | MAA—17500
OCEAN CAPE, AK NDB | CAPEM, AK FIX | *6000
* 2000—MOCA |  | MAA—17500
CAPEM, AK FIX | CORVA, AK FIX | *6000
* 4400—MOCA |  | MAA—17500
CORVA, AK FIX | EGGER, AK FIX | 2000 MAA—17500
EGGER, AK FIX | ORCA BAY, AK NDB | 5000 MAA—17500
TAKOTNA RIVER, AK NDB | NORTH RIVER, AK NDB | *7000
* 6000—MOCA |  | MAA—17500
NORTH RIVER, AK NDB | FORT DAVIS, AK NDB | 3000 MAA—17500
§ 95.11 Amber Federal Airway A15 Is Amended To Delete
U.S. CANADIAN BORDER | NICHOLS, AK NDB | 5000 MAA—17500
NICHOLS, AK NDB | SUMNER STRAIT, AK NDB | * 7000
* 5100—MOCA |  | MAA—17500
* 6000—GNSS MEA
SUMNER STRAIT, AK NDB | COGHLAN ISLAND, AK NDB | 7000 MAA—17500
COGHLAN ISLAND, AK NDB | HAINES, AK NDB | * 9000
* 8300—MOCA |  | MAA—17500
HAINES, AK NDB | U.S. CANADIAN BORDER | * 11000
* 9300—MOCA |  | MAA—17500
U.S. CANADIAN BORDER | NABESNA, AK NDB | * 8400
* 6700—MOCA |  | MAA—17500
NABESNA, AK NDB | DELTA JUNCTION, AK NDB | 8000 MAA—17500
§ 95.6 Blue Federal Airway B28 Is Amended To Delete
U.S. CANADIAN BORDER | NICHOLS, AK NDB | 5000 MAA—17500
NICHOLS, AK NDB | SITKA, AK NDB | * 6900
* 6000—MOCA |  | MAA—17500
* 6000—GNSS MEA
§ 95.60 Blue Federal Airway B9 Is Amended To Delete
* DEEDS, FL FIX | MARATHON, FL NDB | ** 2000
* 4000—MRA |  | MAA—17500
** 1500—MOCA

From | To | MEA | MAA
§ 95.3000 Low Altitude RNAV Routes
§ 95.3291 RNAV Route T291 Is Amended by Adding
TAR RIVER, NC VORTAC | COUPN, VA WP | 1800 | 17500
COUPN, VA WP | HARCUM, VA VORTAC | 1800 | 17500
SELINSGROVE, PA VOR/DME | HYATT, PA WP | 3800 | 17500
HYATT, PA WP | MEGSS, PA FIX | 4000 | 17500
LAAYK, PA FIX | DANZI, NY FIX | 4900 | 17500
DANZI, NY FIX | ALBANY, NY VORTAC | 5600 | 17500
Is Amended To Delete
SELINSGROVE, PA VOR/DME | MILTON, PA VORTAC | 3800 | 17500
MILTON, PA VORTAC | MEGSS, PA FIX | 4000 | 17500
LEDIE, NY WP | DELANCEY, NY VOR/DME | 4900 | 17500
DELANCEY, NY VOR/DME | ALBANY, NY VORTAC | 5600 | 17500
§ 95.3314 RNAV Route T314 Is Amended by Adding
KINGSTON, NY VOR/DME | PAWLN, NY WP | 3000 | 17500
PAWLN, NY WP | STUBY, CT FIX | 3300 | 17500
STUBY, CT FIX | SASHA, MA FIX | 3700 | 17500
SASHA, MA FIX | TOMES, MA FIX | * 4100 | 17500
* 3500—MOCA
TOMES, MA FIX | BARNES, MA VORTAC | 3400 | 17500
GARDNER, MA VOR/DME | KENNEBUNK, ME VOR/DME | 3500 | 17500
Is Amended To Delete
GARDNER, MA VOR/DME | JOHNZ, NH FIX | 3500 | 17500
JOHNZ, NH FIX | MANCH, NH FIX | * 2600 | 17500
* 2100—MOCA
MANCH, NH FIX | KHRIS, NH FIX | 2300 | 17500
KHRIS, NH FIX | RAYMY, NH FIX | * 2600 | 17500
* 2100—MOCA
RAYMY, NH FIX | YUKES, NH WP | 2300 | 17500
YUKES, NH WP | KENNEBUNK, ME VOR/DME | 2600 | 17500
Is Amended To Read in Part
BARNES, MA VORTAC | PUDGY, MA FIX | 2900 | 17500
§ 95.3331 RNAV Route T331 Is Amended by Adding
BYPOR, MN WP | U.S. CANADIAN BORDER | * 10000 | 17500
* 3400—MOCA
Is Amended To Delete
BYPOR, MN WP | MECNU, MN WP | * 10000 | 17500
* 3400—MOCA
§ 95.3434 RNAV Route T434 Is Added To Read
SCAAM, PA WP | WATSO, PA FIX | 4700 | 17500
WATSO, PA FIX | HYATT, PA WP | 3000 | 17500
HYATT, PA WP | BEERS, PA FIX | 3700 | 17500
BEERS, PA FIX | SOLBERG, NJ VOR/DME | 3300 | 17500
SOLBERG, NJ VOR/DME | TYKES, NJ FIX | * 2300 | 17500
* 1800—MOCA
TYKES, NJ FIX | NECCK, NJ WP | 2000 | 17500
§ 95.3440 RNAV Route T440 Is Amended by Adding
STUBN, NY WP | BIPOD, PA WP | 4000 | 17500
Is Amended To Delete
ELMIRA, NY VOR/DME | BIPOD, PA WP | 4000 | 17500
§ 95.3445 RNAV Route T445 Is Amended by Adding
LYKOM, PA WP | STUBN, NY WP | 4900 | 17500
STUBN, NY WP | BEEPS, NY FIX | 4500 | 17500
Is Amended To Delete
LYKOM, PA WP | ELMIRA, NY VOR/DME | 4900 | 17500
ELMIRA, NY VOR/DME | BEEPS, NY FIX | 4500 | 17500
Is Amended To Read in Part
HARRISBURG, PA VORTAC | MORTO, PA FIX | 3600 | 17500
MORTO, PA FIX | SELINSGROVE, PA VOR/DME | 3300 | 17500
§ 95.3454 RNAV Route T454 Is Added To Read
SCAAM, PA WP | * FAVUM, PA FIX | 4600 | 17500
* 4500—MCA FAVUM, PA FIX, W BND
FAVUM, PA FIX | ZIMEL, PA FIX | 4400 | 17500
ZIMEL, PA FIX | WILLIAMSPORT, PA VOR/DME | 4300 | 17500
WILLIAMSPORT, PA VOR/DME | MUNCI, PA FIX | 4900 | 17500
MUNCI, PA FIX | SWANK, PA FIX | 4800 | 17500
SWANK, PA FIX | WILKES-BARRE, PA VORTAC | 4600 | 17500
WILKES-BARRE, PA VORTAC | HARTY, PA FIX | 4600 | 17500
HARTY, PA FIX | MUGZY, NJ FIX | 3500 | 17500
MUGZY, NJ FIX | NWTON, NJ WP | 3200 | 17500
§ 95.3458 RNAV Route T458 Is Added To Read
STUBN, NY WP | BINGHAMTON, NY VOR/DME | 4600 | 17500
BINGHAMTON, NY VOR/DME | DANZI, NY FIX | 4900 | 17500
DANZI, NY FIX | * PETER, NY FIX | 5600 | 17500
* 5700—MCA PETER, NY FIX, E BND
PETER, NY FIX | AGNEZ, NY FIX | 6300 | 17500
AGNEZ, NY FIX | * ACOVE, NY FIX | 6300 | 17500
* 6000—MCA ACOVE, NY FIX, W BND
ACOVE, NY FIX | * ATHOS, NY FIX | 5700 | 17500
* 4400—MCA ATHOS, NY FIX, W BND
ATHOS, NY FIX | * HIDAL, NY FIX | 4100 | 17500
* 4100—MCA HIDAL, NY FIX, E BND
HIDAL, NY FIX | STELA, MA FIX | 4500 | 17500
STELA, MA FIX | CHESTER, MA VOR/DME | 4500 | 17500
CHESTER, MA VOR/DME | FAIDS, MA FIX | 4000 | 17500
FAIDS, MA FIX | SPENO, MA FIX | 2900 | 17500
SPENO, MA FIX | GLYDE, MA FIX | 3100 | 17500
GLYDE, MA FIX | BOSTON, MA VOR/DME | 3100 | 17500
§ 95.3467 RNAV Route T467 Is Added To Read
BERYL, UT FIX | * ELY, NV VOR/DME | 13800 | 17500
* 12200—MCA ELY, NV VOR/DME, SE BND
ELY, NV VOR/DME | TESSA, NV WP | 11800 | 17500
TESSA, NV WP | RUBII, NV WP | 11300 | 17500
RUBII, NV WP | * WELLS, NV VOR/DME | 13500 | 17500
* 12400—MCA WELLS, NV VOR/DME, SW BND
WELLS, NV VOR/DME | YIKUK, NV FIX | 11100 | 17500
YIKUK, NV FIX | BROPH, ID WP | 10000 | 17500
§ 95.3634 RNAV Route T634 Is Amended by Adding
U.S. CANADIAN BORDER | WATERTOWN, NY VORTAC | 2000 | 17500
WATERTOWN, NY VORTAC | BRUIN, NY WP | 2600 | 17500
BRUIN, NY WP | PAGER, NY FIX | 2600 | 17500
PAGER, NY FIX | SYRACUSE, NY VORTAC | 2300 | 17500
SYRACUSE, NY VORTAC | * STODA, NY FIX | 2300 | 17500
* 2900—MCA STODA, NY FIX, SE BND
STODA, NY FIX | TEBOR, NY FIX | 4200 | 17500
TEBOR, NY FIX | DINNO, NY FIX | 4200 | 17500
DINNO, NY FIX | EATEN, NY FIX | 4200 | 17500
EATEN, NY FIX | SHERB, NY FIX | 4100 | 17500
SHERB, NY FIX | RAHKS, NY WP | 4300 | 17500
RAHKS, NY WP | DANZI, NY FIX | 4900 | 17500
DANZI, NY FIX | * RIMBA, NY FIX | 5700 | 17500
* 5900—MCA RIMBA, NY FIX, SE BND
RIMBA, NY FIX | * PRNCE, NY FIX | 6200 | 17500
* 6400—MCA PRNCE, NY FIX, SE BND
PRNCE, NY FIX | FILPS, NY FIX | 6400 | 17500
FILPS, NY FIX | * WEETS, NY FIX | 6400 | 17500
* 5300—MCA WEETS, NY FIX, NW BND
WEETS, NY FIX | KINGSTON, NY VOR/DME | 4000 | 17500
KINGSTON, NY VOR/DME | CASSH, NY FIX | 3600 | 17500
CASSH, NY FIX | NOBBI, NY FIX | 3600 | 17500
NOBBI, NY FIX | CARMEL, NY VOR/DME | 2700 | 17500
CARMEL, NY VOR/DME | DENNA, CT FIX | 2700 | 17500
DENNA, CT FIX | BETHA, CT FIX | 2200 | 17500
BETHA, CT FIX | CREAM, NY FIX | 1700 | 17500
CREAM, NY FIX | BOROS, NY FIX | 1800 | 17500
BOROS, NY FIX | GARRD, NY FIX | 1800 | 17500
GARRD, NY FIX | SUFOK, RI FIX | 1700 | 17500
SUFOK, RI FIX | SANDY POINT, RI VOR/DME | 1900 | 17500
Is Amended To Delete
SYRACUSE, NY VORTAC | PAGER, NY FIX | 2300 | 17500
PAGER, NY FIX | BRUIN, NY WP | 2600 | 17500
BRUIN, NY WP | WATERTOWN, NY VORTAC | 2600 | 17500
WATERTOWN, NY VORTAC | U.S. CANADIAN BORDER | 2000 | 17500
§ 95.3765 RNAV Route T765 Is Added To Read
HOUGHTON, MI VOR/DME | U.S. CANADIAN BORDER | * 3100 | 17500
* 2600—MOCA
U.S. CANADIAN BORDER | INTERNATIONAL FALLS, MN VOR/DME | 3000 | 17500
INTERNATIONAL FALLS, MN VOR/DME | U.S. CANADIAN BORDER | 2900 | 9000
U.S. CANADIAN BORDER | U.S. CANADIAN BORDER | * 11000 | 17500
* 2400—MOCA
§ 95.3776 RNAV Route T776 Is Added To Read
U.S. CANADIAN BORDER | U.S. CANADIAN BORDER | * 15000 | 17500
* 2400—MOCA
U.S. CANADIAN BORDER | U.S. CANADIAN BORDER | * 15000 | 17500
* 1900—MOCA
U.S. CANADIAN BORDER | SAULT STE MARIE, MI VOR/DME | * 15000 | 17500
* 2100—MOCA
§ 95.3810 RNAV Route T810 Is Added To Read
U.S. CANADIAN BORDER | AVALE, MI WP | * 9000 | 17500
* 2600—MOCA
AVALE, MI WP | SRADE, MI WP | * 3000 | 17500
* 2200—MOCA
SRADE, MI WP | U.S. CANADIAN BORDER | * 3000 | 17500
* 2400—MOCA
U.S. CANADIAN BORDER | SAULT STE MARIE, MI VOR/DME | * 3000 | 17500
* 2100—MOCA
§ 95.4000 High Altitude RNAV Routes
§ 95.4143 RNAV Route Q143 Is Added To Read
WINEN, UT WP | LNNKA, NV WP | * 18000 | 45000
* 18000—GNSS MEA
* DME/DME/IRU MEA
LNNKA, NV WP | TESSA, NV WP | * 22000 | 45000
* 18000—GNSS MEA
* DME/DME/IRU MEA
TESSA, NV WP | RUBII, NV WP | * 22000 | 45000
* 18000—GNSS MEA
* DME/DME/IRU MEA
RUBII, NV WP | CLEIN, NV WP | * 20000 | 45000
* 18000—GNSS MEA
* DME/DME/IRU MEA
CLEIN, NV WP | BROPH, ID WP | * 20000 | 45000
* 18000—GNSS MEA
* DME/DME/IRU MEA
§ 95.4221 RNAV Route Q221 Is Added To Read
ARMEL, VA VOR/DME | DLMAR, PA WP | * 18000 | 45000
* 18000—GNSS MEA
* DME/DME/IRU MEA
§ 95.4227 RNAV Route Q227 Is Added To Read
ARMEL, VA VOR/DME | OGESY, PA WP | * 18000 | 45000
* 18000—GNSS MEA
* DME/DME/IRU MEA
OGESY, PA WP | STUBN, NY WP | * 18000 | 45000
* 18000—GNSS MEA
* DME/DME/IRU MEA
§ 95.4834 RNAV Route Q834 Is Added To Read
U.S. CANADIAN BORDER | DULUTH, MN VORTAC | * 18000 | 45000
* GNSS REQUIRED
§ 95.4924 RNAV Route Q924 Is Added To Read
DULUTH, MN VORTAC | U.S. CANADIAN BORDER | * 18000 | 45000
* GNSS REQUIRED

From | To | MEA
§ 95.6001 Victor Routes—U.S
§ 95.6007 VOR Federal Airway V7—Is Amended To Read in Part
LEE COUNTY, FL VORTAC | *CROWD, FL FIX | 2600
*5000—MRA |  | MAA—17500
§ 95.6013 VOR Federal Airway V13—Is Amended To Delete
DULUTH, MN VORTAC | *WEMAN, MN WP | 4000
*6000—MRA |  | MAA—17500
*10000—MCA WEMAN, MN WP, NE BND
WEMAN, MN WP | U.S. CANADIAN BORDER | 10000 MAA—17500
Is Amended To Read in Part
LAMONI, IA VOR/DME | DES MOINES, IA VORTAC | 3000 MAA—17500
§ 95.6035 VOR Federal Airway V35—Is Amended To Delete
STONYFORK, PA VOR/DME | ELMIRA, NY VOR/DME | *4500
*3900—MOCA |  | MAA—17500
ELMIRA, NY VOR/DME | SCIPO, NY FIX | 3700 MAA—17500
SCIPO, NY FIX | SYRACUSE, NY VORTAC | 3500 MAA—17500
§ 95.6036 VOR Federal Airway V36—Is Amended To Delete
ELMIRA, NY VOR/DME | HAWLY, PA WP | *4500
* GNSS MEA
HAWLY, PA WP | HOPCE, NJ FIX | *15500
*3600—MOCA |  | MAA—17500
*4000—GNSS MEA
HOPCE, NJ FIX | NEION, NJ FIX | *13500
*3600—MOCA |  | MAA—17500
*4000—GNSS MEA
§ 95.6048 VOR Federal Airway V48—Is Amended To Delete
OTTUMWA, IA VOR/DME | BURLINGTON, IA VOR/DME | 2500 MAA—17500
§ 95.6052 VOR Federal Airway V52—Is Amended To Delete
DES MOINES, IA VORTAC | BUSSY, IA WP | *4500
*2400—MOCA |  | MAA—17500
*2700—GNSS MEA
*DES MOINES R—105 UNUSABLE, USE OTTUMWA R-287
BUSSY, IA WP | OTTUMWA, IA VOR/DME | 2700 MAA-17500
§ 95.6060 VOR Federal Airway V60—Is Amended To Read in Part
GALLUP, NM VORTAC | *CUBBA, NM FIX | 11400
*10300—MCA CUBBA, NM FIX, W BND |  | MAA—17500
§ 95.6062 VOR Federal Airway V62—Is Amended To Read in Part
GALLUP, NM VORTAC | *CABZO, NM FIX | 11400
*10500—MCA CABZO, NM FIX, W BND |  | MAA—17500
ZIASE, NM FIX | SANTA FE, NM VORTAC | 9500 MAA—17500
§ 95.6066 VOR Federal Airway V66—Is Amended To Delete
RALEIGH/DURHAM, NC VORTAC | MEYER, NC FIX | 2600 MAA—17500
MEYER, NC FIX | FRANKLIN, VA VORTAC | UNUSABLE
§ 95.6077 VOR Federal Airway V77—Is Amended To Read in Part
LAMONI, IA VOR/DME | DES MOINES, IA VORTAC | 3000 MAA-17500
DES MOINES, IA VORTAC | NEWTON, IA VOR/DME | 3100 MAA—17500
§ 95.6079 VOR Federal Airway V79—Is Amended To Delete
HASTINGS, NE VOR/DME | LINCOLN, NE VORTAC | 4000 MAA—17500
§ 95.6133 VOR Federal Airway V133—Is Amended To Delete
HOUGHTON, MI VOR/DME | U.S. CANADIAN BORDER | *3100
*2500—MOCA |  | MAA—17500
U.S. CANADIAN BORDER | INTERNATIONAL FALLS, MN VOR/DME | *3000
*2500—MOCA |  | MAA—17500
§ 95.6138—VOR Federal Airway V138—Is Amended To Read in Part
GRAND ISLAND, NE VOR/DME | GAMBL, NE FIX | 4100 MAA—17500
§ 95.6147 VOR Federal Airway V147—Is Amended To Delete
WILKES-BARRE, PA VORTAC | ELMIRA, NY VOR/DME | 4000 MAA—17500
ELMIRA, NY VOR/DME | GENESEO, NY VOR/DME | 4000 MAA—17500
§ 95.6155 VOR Federal Airway V155—Is Amended To Delete
RALEIGH/DURHAM, NC VORTAC | WIPER, NC WP | 2300 MAA—17500
WIPER, NC WP | LAWRENCEVILLE, VA VORTAC | *8000
*2000—MOCA |  | MAA—17500
*2300—GNSS MEA
*LAWRENCEVILLE R—225 UNUSABLE, USE RALEIGH/DURHAM R—046
LAWRENCEVILLE, VA VORTAC | *MANGE, VA FIX | **4000
*5000—MRA |  | MAA—17500
**2000—GNSS MEA
*LAWRENCEVILLE R 042 UNUSABLE, USE RICHMOND R—223
MANGE, VA FIX | FLAT ROCK, VA VORTAC | *5000
*1800—MOCA |  | MAA—17500
*2000—GNSS MEA
§ 95.6157 VOR Federal Airway V157—Is Amended To Delete
TAR RIVER VORTAC | LAWRENCEVILLE, VA VORTAC | *4500
*2500—MOCA |  | MAA—17500
*LAWRENCEVILLE R 177 UNUSABLE BELOW 6000, USE TAR RIVER R—354.
LAWRENCEVILLE, VA VORTAC | DALTO, VA FIX | *4000 MAA—17500
*2000—GNSS MEA
*LAWRENCEVILLE R—042 UNUSABLE
DALTO, VA FIX | RICHMOND, VA VORTAC | 2000 MAA—17500
§ 95.6161 VOR Federal Airway V161—Is Amended To Delete
INTERNATIONAL FALLS, MN VOR/DME | U.S. CANADIAN BORDER | 3000 MAA—17500
U.S. CANADIAN BORDER | U.S. CANADIAN BORDER | *11000
*2400—MOCA |  | MAA—17500
Is Amended To Read in Part
LAMONI, IA VOR/DME | DES MOINES, IA VORTAC | 3000 MAA—17500
§ 95.6189 VOR Federal Airway V189—Is Amended To Delete
WRIGHT BROTHERS, NC VOR/DME | *DAREZ, NC WP | **8000
*8000—MCA DAREZ, NC WP, E BND |  | MAA—17500
**3000—GNSS MEA
DAREZ, NC WP | TAR RIVER, NC VORTAC | *6000
*3000—MOCA |  | MAA—17500
*4000—GNSS MEA
TAR RIVER, NC VORTAC | FRANKLIN, VA VORTAC | 2000 MAA—17500
FRANKLIN, VA VORTAC | HOPEWELL, VA VORTAC | 3000 MAA—17500
§ 95.6206 VOR Federal Airway V206—Is Amended To Delete
NAPOLEON, MO VORTAC | KIRKSVILLE, MO VORTAC | 3000 MAA—17500
KIRKSVILLE, MO VORTAC | OTTUMWA, IA VOR/DME | 3100 MAA—17500
§ 95.6216 VOR Federal Airway V216—Is Amended To Delete
LAMONI, IA VOR/DME | OTTUMWA, IA VOR/DME | 2900 MAA—17500
OTTUMWA, IA VOR/DME | IOWA CITY, IA VOR/DME | 3000 MAA—17500
§ 95.6220 VOR Federal Airway V220—Is Amended To Delete
KEARNEY, NE VOR | HASTINGS, NE VOR/DME | 4300 MAA—17500
HASTINGS, NE VOR/DME | COLUMBUS, NE VOR/DME | 4000 MAA—17500
§ 95.6258 VOR Federal Airway V258—Is Amended To Delete
ROANOKE, VA VOR/DME | PIGGS, VA FIX | 5400 MAA—17500
PIGGS, VA FIX | ENTUK, VA WP | *4000 MAA—17500
*3400—MOCA |  | MAA—17500
ENTUK, VA WP | DANVILLE, VA VOR | 3000 MAA—17500
§ 95.6263 VOR Federal Airway V263—Is Amended To Read in Part
ALBUQUERQUE, NM VORTAC | *SANTA FE, NM VORTAC | 9500 MAA—17500
*11600—MCA SANTA FE, NM VORTAC , E BND |  | MAA—17500
SANTA FE, NM VORTAC | *FORT UNION, NM VORTAC | 12700 MAA—17500
*10900—MCA FORT UNION, NM VORTAC , N BND
*11300—MCA FORT UNION, NM VORTAC, W BND |  | MAA—17500
§ 95.6266 VOR Federal Airway V266—Is Amended To Delete
SOUTH BOSTON, VA VORTAC | LAWRENCEVILLE, VA VORTAC | *3000 MAA—17500
*2000—MOCA |  | MAA—17500
*2300—GNSS MEA
*LAWRENCEVILLE R 269 UNUSABLE, USE SOUTH BOSTON R-086
LAWRENCEVILLE, VA VORTAC | FRANKLIN, VA VORTAC | UNUSABLE
FRANKLIN, VA VORTAC | *SUNNS, NC FIX | UNUSABLE
*5000—MCA SUNNS, NC FIX, SE BND
ELIZABETH CITY, NC VOR/DME | WRIGHT BROTHERS, NC VOR/DME | 4000 MAA—17500
§ 95.6270 VOR Federal Airway V270—Is Amended by Adding
BINGHAMTON, NY VOR/DME | DANZI, NY FIX | *5000 MAA—17500
*4300—MOCA |  | MAA—17500
DANZI, NY FIX | CHESTER, MA VOR/DME | 6300 MAA—17500
Is Amended To Delete
ELMIRA, NY VOR/DME | BINGHAMTON, NY VOR/DME | 3500 MAA—17500
BINGHAMTON, NY VOR/DME | DELANCEY, NY VOR/DME |
| W BND | 4500 MAA—17500
| E BND | 4800 MAA—17500
DELANCEY, NY VOR/DME | *ACOVE, NY FIX | 6300 MAA—17500
*8000—MRA |  | MAA—17500
ACOVE, NY FIX | *ATHOS, NY FIX | 6300
*6000—MCA ATHOS, NY FIX, W BND |  | MAA—17500
ATHOS, NY FIX | CHESTER, MA VOR/DME | 4500 MAA—17500
§ 95.6300 VOR Federal Airway V300—Is Amended To Delete
U.S. CANADIAN BORDER | AVALE, MI WP | *9000 MAA—17500
*2400—MOCA |  | MAA—17500
AVALE, MI WP | U.S. CANADIAN BORDER | *3000 MAA—17500
*2400—MOCA |  | MAA—17500
U.S. CANADIAN BORDER | SAULT STE MARIE, MI VOR/DME | *3000 MAA—17500
*2400—MOCA |  | MAA—17500
U.S. CANADIAN BORDER | CAMPO, ME WP | *9000 MAA—17500
*5900—MOCA |  | MAA—17500
*5900—GNSS MEA
CAMPO, ME WP | WRAPT, ME WP | *9000 MAA—17500
*6000—MOCA |  | MAA—17500
*6000—GNSS MEA
WRAPT, ME WP | MILLINOCKET, ME VOR/DME | *7000 MAA—17500
*5900—MOCA |  | MAA—17500
*5900—GNSS MEA
MILLINOCKET, ME VOR/DME | U.S. CANADIAN BORDER | *3000 MAA—17500
*2200—MOCA |  | MAA—17500
§ 95.6348 VOR Federal Airway V348—Is Amended To Delete
U.S. CANADIAN BORDER | U.S. CANADIAN BORDER | *15000 MAA—17500
*2800—MOCA |  | MAA—17500
U.S. CANADIAN BORDER | U.S. CANADIAN BORDER | *15000 MAA—17500
*2800—MOCA |  | MAA—17500
U.S. CANADIAN BORDER | SAULT STE MARIE, MI VOR/DME | *15000 MAA—17500
*2800—MOCA |  | MAA—17500
SAULT STE MARIE, MI VOR/DME | U.S. CANADIAN BORDER | *7000 MAA—17500
*3000—MOCA |  | MAA—17500
§ 95.6360 VOR Federal Airway V360—Is Amended To Delete
SAULT STE MARIE, MI VOR/DME | U.S. CANADIAN BORDER | *6000 MAA—17500
*2600—MOCA |  | MAA—17500
§ 95.6380 VOR Federal Airway V380—Is Amended To Delete
GRAND ISLAND, NE VOR/DME | HASTINGS, NE VOR/DME | 4000 MAA—17500
HASTINGS, NE VOR/DME | MANKATO, KS VORTAC | 3900 MAA—17500
§ 95.6434 VOR Federal Airway V434—Is Amended To Delete
OTTUMWA, IA VOR/DME | MOLINE, IL VOR/DME | *3000 MAA—17500
*2500—MOCA |  | MAA—17500
§ 95.6454 VOR Federal Airway V454—Is Amended To Delete
LIBERTY, NC VORTAC | NOKIY, VA FIX | *6000 MAA—17500
*3000—GNSS MEA
NOKIY, VA FIX | LAWRENCEVILLE, VA VORTAC | *8000 MAA—17500
*3000—GNSS MEA
*LAWRENCEVILLE R-242 UNUSABLE, USE LIBERTY R-056
LAWRENCEVILLE, VA VORTAC | JUNKI, VA FIX | *6000 MAA—17500
*1900—MOCA |  | MAA—17500
*2000—GNSS MEA
*LAWRENCEVILLE R-059 UNUSABLE, USE HOPEWELL R-237
JUNKI, VA FIX | HOPEWELL, VA VORTAC | 2000 MAA—17500
§ 95.6469 VOR Federal Airway V469—Is Amended To Delete
DANVILLE, VA VOR | LYNCHBURG, VA VOR/DME | 3000 MAA—17500
§ 95.6539 VOR Federal Airway V539—Is Amended To Read in Part
KEY WEST, FL VORTAC | GOODY, FL FIX | *4000 MAA—17500
*1400—MOCA |  | MAA—17500
§ 95.6611 VOR Federal Airway V611—Is Amended To Read in Part
SOCORRO, NM VORTAC | *ALBUQUERQUE, NM VORTAC | 8000 MAA—17500
*8200-MCA ALBUQUERQUE, NM VORTAC , NE BND |  | MAA—17500
ALBUQUERQUE, NM VORTAC | *SANTA FE, NM VORTAC | 9600 MAA—17500
*11600—MCA SANTA FE, NM VORTAC, E BND |  | MAA—17500
SANTA FE, NM VORTAC | *FORT UNION, NM VORTAC | 12700
*10900—MCA FORT UNION, NM VORTAC, N BND
*11300—MCA FORT UNION, NM VORTAC, W BND |  | MAA—17500
§ 95.6428 Alaska VOR Federal Airway V428—Is Amended To Delete
SISTERS ISLAND, AK VORTAC | HAINES, AK NDB | *10000 MAA—17500
*8500—MOCA |  | MAA—17500
*8500—GNSS MEA
*MEA IS ESTABLISHED WITH A GAP IN NAVIGATION SIGNAL COVERAGE
HAINES, AK NDB | U.S. CANADIAN BORDER | *10000 MAA—17500
*9600—MOCA |  | MAA—17500
§ 95.6508 Alaska VOR Federal Airway V508—Is Amended To Delete
SPARREVOHN, AK VOR/DME | ANIAK, AK NDB | 6000 MAA—17500

From | To | MEA | MAA
§ 95.7001 Jet Routes
§ 95.7089 Jet Route J89—Is Amended To Delete
DULUTH, MN VORTAC | U.S. CANADIAN BORDER | 18000 MAA—17500 | 45000 MAA—17500
§ 95.7132 Jet Route J132—Is Amended To Delete
ELMIRA, NY VOR/DME | HUGUENOT, NY VOR/DME | 18000 MAA—17500 | 45000 MAA—17500
§ 95.7223 Jet Route J223—Is Amended To Delete
LA GUARDIA, NY VOR/DME | CORDS, PA WP | 18000 MAA—17500 | 25000 MAA—17500
§ 95.7227 Jet Route J227—Is Amended To Delete
ARMEL, VA VOR/DME | ELMIRA, NY VOR/DME | *18000 MAA—17500 | 23000 MAA—17500
*ARMEL R—009 UNUSABLE BYD 74 NM
*ELMIRA R—205 UNUSABLE BYD 73 NM
§ 95.7533 Jet Route J533—Is Amended To Delete
DULUTH, MN VORTAC | U.S. CANADIAN BORDER | 18000 MAA—17500 | 45000 MAA—17500

Airway Segment: From | Airway Segment: To | Changeover Points: Distance | Changeover Points: From
§ 95.8003 VOR Federal Airway Changeover Point
V161 Is Amended To Delete Changeover Point
INTERNATIONAL FALLS, MN VOR/DME | WINNIPEG, CA VORTAC | 77 | INTERNATIONAL FALLS
V189 Is Amended To Delete Changeover Point
WRIGHT BROTHERS, NC VOR/DME | TAR RIVER, NC VORTAC | 25 | WRIGHT BROTHERS
V300 Is Amended To Delete Changeover Point
SAULT STE MARIE, MI VOR/DME | THUNDER BAY, CA VOR/DME | 94 | SAULT STE MARIE
V454 Is Amended To Delete Changeover Point
LIBERTY, NC VORTAC | LAWRENCEVILLE, VA VORTAC | 82 | LIBERTY
ALASKA V428 Is Amended To Delete Changeover Point
SISTERS ISLAND, AK VORTAC | HAINES, AK NDB | 21 | SISTERS ISLAND
HAINES, AK NDB | WHITEHORSE, AK VOR/DME | 30 | HAINES
ALASKA V508 Is Amended To Delete Changeover Point
SPARREVOHN, AK VOR/DME | ANIAK, AK NDB | 68 | SPARREVOHN

[FR Doc. 2024-17928 Filed 8-12-24; 8:45 am]

BILLING CODE 4910-13-P